NATIONAL SCIENCE FOUNDATION

Notice of the Availability of Finding of No Significant Impact for a Biocomplexity Study of the Response of Tundra Carbon Balance to Warming and Drying Across Multiple Time Scales

AGENCY: National Science Foundation.

ACTION: Notice of availability of a finding of no significant impact for proposed activities in the Arctic.

SUMMARY: The National Science Foundation gives notice of the availability of a finding of no significant impact for proposed activities in the Arctic.

The Office of Polar Programs (OPP) has prepared an Environmental Assessment of a Biocomplexity Study of the Response of Tundra Carbon Balance to Warming and Drying Across Multiple Time Scales, 2005-2008. Given the United States Arctic Program's mission to support polar research, the proposed action is expected to result in substantial benefits to science. The draft Environmental Assessment was available for public review for a 30-day period; several comments were received.

DATES: Comments on the FONSI must be submitted on or before July 27, 2005.

ADDRESSES: Comments should be submitted to Dr. Polly A. Penhale, National Science Foundation, Office of Polar Programs, 4201 Wilson Blvd., Suite 755, Arlington, VA 22230. Telephone: (703) 292-8033. Copies of the Finding of No Significant Impact and the Environmental Assessment are available upon request from Dr. Penhale.

FOR FURTHER INFORMATION CONTACT: The National Science Foundation has prepared a Finding of No Significant Impact (FONSI) based on this EA, in accordance with CEQ regulations § 1500-1508 and 45 CFR Part 640. It was determined that the proposed activity would not result in a significant impact on the quality of the human environment within the meaning of the National Environmental Policy Act (NEPA) of 1969. Therefore, a FONSI was issued, and no environmental impact statement is required.

Copies of the FONSI and the Environmental Assessment titled, Biocomplexity Study of the Response of Tundra Carbon Balance to Warming and Drying Across Multiple Time Scales, 2005-2008, are available upon request from: Dr. Polly A. Penhale, National Science Foundation, Office of Polar Programs, 4201 Wilson Blvd., Suite 755, Arlington, VA 22230. Telephone: (703) 292-8033 or at the agency's Web site at: http://www.nsf.gov/od/opp/arctic/arc_envir/tundra_ea.pdf and http://www.nsf.gov/od/opp/arctic/arc_envir/tundra_fonsi.pdf. The National Science Foundation invites interested members of the public to provide written comments on this FONSI.

Polly A. Penhale,
Environmental Officer, Office of Polar Programs, National Science Foundation.

[FR Doc. 05-12666 Filed 6-24-05; 8:45 am]

BILLING CODE 7555-01-M